FEDERAL MEDIATION AND CONCILIATION SERVICE

Privacy Act of 1974; System of Records

AGENCY: Federal Mediation and Conciliation Service.

ACTION: Notice of a new system of records.

SUMMARY: In accordance with the Privacy Act of 1974, the Federal Mediation and Conciliation Service (FMCS) proposes to create a system of records notice, titled FMCS-0006. The system will cover the Executive Branch Confidential Financial Disclosure Reports, and agency ethics guidance to employees.

DATES: This notice will be effective without further notice on November 26, 2021 unless otherwise revised pursuant to comments received. New routine uses will be effective on November 26, 2021. Comments must be received on or before November 26, 2021.

ADDRESSES: You may send comments, identified by FMCS-0006 by any of the following methods:

• Mail: Office of General Counsel, 250 E Street SW, Washington, DC 20427.

• Email: ogc@fmcs.gov. Include FMCS-0006 on the subject line of the message.

• Fax: (202) 606-5444.

FOR FURTHER INFORMATION CONTACT: Sarah Cudahy, Designated Agency Ethics Official and Deputy General Counsel, at scudahy@fmcs.gov or 202-606-8090.

SUPPLEMENTARY INFORMATION: In accordance with the Privacy Act of 1974, 5 U.S.C. 552(a), this document provides public notice that FMCS is creating a new system of records.

SYSTEM NAME AND NUMBER:

FMCS-0006 Ethics Records.

SECURITY CLASSIFICATION:

Unclassified.

SYSTEM LOCATION:

Federal Mediation and Conciliation Service, Office of General Counsel (OGC), 250 E Street SW, Washington, DC 20427.

SYSTEM MANAGER(S):

Sarah Cudahy, Designated Agency Ethics Official and Deputy General Counsel, email scudahy@fmcs.gov, or send mail to Federal Mediation and Conciliation Service, Office of General Counsel (OGC), 250 E Street Southwest, Washington, DC 20427, Attn: Sarah Cudahy.

AUTHORITY FOR MAINTENANCE OF THE SYSTEM:

5 U.S.C. app. (Ethics in Government Act of 1978); E.O. 12674 (as modified by E.O. 12731); 5 CFR part 2634.

PURPOSE(S) OF THE SYSTEM:

These records are collected and maintained to meet the requirements of Executive Order 12674, as modified, 5 CFR part 2634, and subsequent agency regulations, as well as section 107 of the Ethics in Government Act of 1978, as amended, concerning the filing of confidential financial disclosure reports. Confidential financial disclosure reports are required to assure compliance with ethics laws and regulations, and to determine if an actual or apparent conflict of interest or impartiality issue exists between the employment of individuals by the Federal Government and their outside employment financial interests.

CATEGORIES OF INDIVIDUALS COVERED BY THE SYSTEM:

Officers and employees in the executive branch whose positions have been designated as confidential financial disclosure filing positions or alternative financial disclosure filers in accordance with 5 CFR 2634.904 and 5 U.S.C. app. 107. In addition, all executive branch special Government Employees (SGE) as defined in 18 U.S.C. 202(a) and 5 CFR 2634.105(s) are required to file unless they are required to file public financial disclosure reports, or their positions have been excluded from filing. The system of records includes both current and former Federal employees in these categories.

CATEGORIES OF RECORDS IN THE SYSTEM:

These records contain statements and amended statements of personal and family holdings and other interests in property, income, gifts, reimbursements, liabilities, agreements, arrangements, outside positions, retirement products, pensions, and other information related to conflict-of-interest determinations. These statements include completed copies of the Office of General Ethics (OGE) Form 450 and alternate 450 forms and supplemental agency ethics documents.

RECORD SOURCE CATEGORIES:

Information in this system of records is provided by:

1. The Federal employee or a designated person such as a trustee, accountant, banker or relative.

2. Federal officials who review the statements to make conflict-of-interest determinations.

3. Persons alleging conflicts of interest or other violations of ethics laws and persons contacted during any investigation of the allegations.

4. FMCS clients who complete notice documents in the waiver process.

ROUTINE USES OF RECORDS MAINTAINED IN THE SYSTEM, INCLUDING CATEGORIES OF USERS AND PURPOSES OF SUCH USES:

These confidential records and information contained therein may be used:

(a) To disclose pertinent information to the appropriate Federal, State, or local agency responsible for investigating, prosecuting, enforcing, or implementing a statute, rule regulation or order where the disclosing agency becomes aware of an indication of a violation or potential violation of civil or criminal laws or regulations.

(b) To disclose information to any source when necessary to obtain information relevant to a conflict-of-interest investigation or determination.

(c) To disclose information to the National Archives and Records Administration (NARA) or the General Services Administration in records management inspections conducted under authority of 44 U.S.C. 2904 and 2906.

(d) To disclose information to the Office of Management and Budget at any stage in the legislative coordination and clearance process in connection with private relief legislation as set forth in OMB Circular No. A-19.

(e) To disclose information when the disclosing agency determines that the records are relevant to a proceeding before a court, grand jury, or administrative or adjudicative body when the adjudicator determines the records to be relevant to the proceeding.

(f) To disclose the confidential financial disclosure report or certificate of no new interest and any accompanying documents to reviewing officials in a new office, department or agency when an employee transfers or is detailed from a covered position in one office, department or agency to a covered position in another office, department, or agency.

(g) To disclose information to a Member of Congress or a congressional office in response to an inquiry made on behalf of, and at the request of, an individual who is the subject of the record.

(h) To disclose information to contractors, grantees, experts, consultants, detailees, and other non-Government employees performing or working on a contract, service, or other assignment for the Federal Government when necessary to accompany an agency function related to this system of records.

(i) To disclose the existence of a potential or actual impartiality concern to an Agency party or client to resolve a concern under 5 CFR 2635.502.

(j) To disclose information to appropriate agencies, entities, and persons when: (1) The agency maintaining the records suspects or has confirmed that there has been a breach of the system of records; (2) the agency maintaining the records has determined that as a result of the suspected or confirmed breach there is a risk of harm to individuals, the agency (including its information systems, programs, and operations), the Federal Government, or national security; and (3) the disclosure made to such agencies, entities, and persons is reasonably necessary to assist the recipient agency or entity in (1) responding to a suspected or confirmed breach or (2) preventing, minimizing, or remedying the risk of harm to individuals, the recipient agency or entity (including its information systems, programs, and operations), the Federal Government or national security, resulting from a suspected or confirmed breach.

POLICIES AND PRACTICES FOR STORAGE OF RECORDS:

These records are maintained in paper and electronic form in locations only accessible to authorized personnel.

POLICIES AND PRACTICES FOR RETRIEVAL OF RECORDS:

These records are retrieved by the name or other programmatic identifier assigned to an individual.

POLICIES AND PRACTICES FOR RETENTION AND DISPOSAL OF RECORDS:

In accordance with the NARA's General Records Schedule (GRS) 2.8 Employee Ethics Records, these records are retained for six years after filing, except when filed by or with respect to a nominee and the nominee ceases to be under consideration for the position. If any records are needed in an ongoing investigation, they will be retained for the duration of the investigation. Records are destroyed by shredding or deleting.

ADMINSTRATIVE, TECHNICAL, AND PHYSICAL SAFEGUARDS:

Records are located in a locked file storage area or stored electronically in locations requiring agency network access via username and password. FMCS buildings are guarded and monitored by security personnel, cameras, ID checks, and other physical security measures.

RECORD ACCESS PROCEDURES:

Individuals wishing to request access to their records should contact the Office of General Counsel (OGC). Individuals must provide the following information for their records to be located and identified: (1) Full name, (2) Dates of employment, and (3) A specific description of the record content requested. Individuals requesting access to records maintained at the Office of Government Ethics (OGE) must also follow OGE's Privacy Act regulations regarding verification of identity and access to records (5 CFR part 2606).

CONTESTING RECORDS PROCEDURES:

Records are updated on a periodic basis; most record corrections can be handled through established administrative procedures. Contact the Office of General Counsel (OGC) for contesting records under the provisions of the Privacy Act.

NOTIFICATION PROCEDURES:

See 29 CFR 1410.3(a), Individual access requests.

EXEMPTIONS PROMULGATED FOR THE SYSTEM:

None.

HISTORY:

None.

Dated: October 22, 2021.
Sarah Cudahy,
General Counsel.

[FR Doc. 2021-23409 Filed 10-26-21; 8:45 am]

BILLING CODE 6732-01-P